DEPARTMENT OF HEALTH AND HUMAN SERVICES

Centers for Disease Control and Prevention

[Program Announcement 03032]

Addressing Asthma From a Public Health Perspective; Notice of Availability of Funds Amendment

A notice announcing the availability of fiscal year (FY) 2003 funds for cooperative agreements for “Addressing Asthma From a Public Health Perspective” published in the Federal Register on May 28, 2003, Volume 68, Number 102, pages 31707-31720. The notice is amended as follows:

On page 31707, third column, at the end of the first paragraph, insert the following, “If the applicant is not the State health department, but is another department responsible for the State asthma program, or a bona fide agent of the State health department, they must include documentation to indicate their status. This documentation should include: (1) A letter from the State health department designating the applicant organization as their bona fide agent, or as the organization responsible for asthma programs within the State; and/or (2) any official documentation showing that the applicant organization maintains responsibility for the State asthma program. The documentation must be placed directly behind the face page of the application form.”

Dated: June 26, 2003.
Edward Schultz,
Acting Director, Procurement and Grants Office, Centers for Disease Control and Prevention.

[FR Doc. 03-16681 Filed 7-1-03; 8:45 am]

BILLING CODE 4163-18-P